NATIONAL AERONAUTICS AND SPACE ADMINISTRATION

48 CFR Part 1845

Government Property—Instructions for Preparing NASA Form 1018

AGENCY: Office of Procurement, Contract Management Division, National Aeronautics and Space Administration (NASA).

ACTION: Final rule.

SUMMARY: This rule adopts as final, without change, the interim rule published in the Federal Register on November 12, 2002, which amended the NASA Federal Acquisition Regulation Supplement (NFS) to provide policies and procedures for proper reporting of heritage assets as part of contractor annual reports of NASA property in its custody, and to clarify other property classifications. NASA uses the data contained in contractor reports for annual financial statements and property management.This change will provide for consistent reporting of NASA property by contractors.

EFFECTIVE DATE: May 2, 2003.

FOR FURTHER INFORMATION: Lou Becker, NASA Headquarters, Office of Procurement, Contract Management Division (Code HK), Washington, DC 20546, telephone: (202) 358-4593, e-mail to: lbecker@hq.nasa.gov.

SUPPLEMENTARY INFORMATION:

A. Background

NASA must account for and report assets in accordance with 31 U.S.C. 3515, Federal Accounting Standards, and Office of Management and Budget (OMB) Bulletin No. 01-09, Form and Content of Agency Financial Statements. Since contractors maintain NASA's official records NASA-owned assets in contractors' possession, NASA must obtain annual data from those records to facilitate proper accounting and control over the assets. NASA published an interim rule in the Federal Register (67 FR 68533) on November 12, 2002, specifying policies and procedures for proper reporting of heritage assets by providing a definition and directing that these assets be reported within appropriate property classifications as part of contractor annual reports of NASA property in its custody. No public comments were received. The interim rule is converted to a final rule without change.

This is not a significant regulatory action, and therefore, was not subject to review under Section 6(b) of Executive Order 12866, Regulatory Planning and Review, dated September 30, 1993.

This final rule is not a major rule under 5 U.S.C.804.

B. Regulatory Flexibility Act

NASA certifies that this final rule will not have a significant economic impact on a substantial number of small businesses within the meaning of the Regulatory Flexibility Act (5 U.S.C. 601 et seq.) because it clarifies existing property reporting policies and procedures contractors must follow when accounting for reporting assets.

C. Paperwork Reduction Act

The Paperwork Reduction Act does not apply because the changes to the NFS do not impose new recordkeeping or information collection requirements, or collections of information from offerors, contractors, or members of the public which require the approval of the Office of Management and Budget under 44 U.S.C. 3501, et seq.

List of Subjects in 48 CFR Part 1845

Government procurement.

Charles W. Duff II,
Acting Assistant Administrator for Procurement.

Interim Rule Adopted as Final Without Change

Accordingly, NASA adopts the interim rule amending 48 CFR part 1845, which was published in the Federal Register on November 12, 2002 (67 FR 68533—68535), as a final rule without change.

[FR Doc. 03-10807 Filed 5-1-03; 8:45 am]

BILLING CODE 7510-01-P